SECURITIES AND EXCHANGE COMMISSION

[Release No. 34-94835; File No. SR-NYSE-2021-44]

Self-Regulatory Organizations; New York Stock Exchange LLC; Notice of Withdrawal of Proposed Rule Change To Amend NYSE Rules 7.31, 7.35, 7.35B, 7.35C, 98, and 104 Relating to the Closing Auction

May 3, 2022.

On September 3, 2021, New York Stock Exchange LLC (“Exchange”) filed with the Securities and Exchange Commission (“Commission”) pursuant to Section 19(b)(1) of the Securities Exchange Act of 1934 (“Act”) ¹ and Rule 19b-4 thereunder,² a proposed rule change to amend Exchange Rules 7.31 (Orders and Modifiers), 7.35 (General), 7.35B (DMM-Facilitated Closing Auctions), 7.35C (Exchange-Facilitated Auctions), 98 (Operation of a DMM Unit), and 104 (Dealings and Responsibilities of DMMs) relating to the Closing Auction. The proposed rule change was published for comment in the Federal Register on September 22, 2021.³

¹ 15 U.S.C. 78s(b)(1).

² 17 CFR 240.19b-4.

³ See Securities Exchange Act Release No. 93037 (Sept. 16, 2021), 86 FR 52719 (Sept. 22, 2021) (SR-NYSE-2021-44).

On November 1, 2021, pursuant to Section 19(b)(2) of the Act,⁴ the Commission extended the time period within which to approve the proposed rule change, disapprove the proposed rule change, or institute proceedings to determine whether to approve or disapprove the proposed rule change to December 21, 2021.⁵ On December 17, 2021, the Commission instituted proceedings under Section 19(b)(2)(B) of the Act ⁶ to determine whether to approve or disapprove the proposed rule change.⁷ On March 17, 2022, the Commission extended the time for Commission action on proceedings to approve or disapprove the proposed rule change to May 20, 2022.⁸ The Commission received two comment letters on the proposal.⁹

⁴ 15 U.S.C. 78s(b)(2).

⁵ See Securities Exchange Act Release No. 93488 (Nov. 1, 2021), 86 FR 61352 (Nov. 5, 2021).

⁶ 15 U.S.C. 78s(b)(2)(B).

⁷ See Securities Exchange Act Release No. 93809 (Dec. 17, 2021), 86 FR 73060 (Dec. 23, 2021).

⁸ See Securities Exchange Act Release No. 94457 (Mar. 17, 2022), 87 FR 16539 (Mar. 23, 2022).

⁹ See Anonymous Letter (Sept. 27, 2021); Letter from Richard Grant, General Counsel, GTS Securities LLC, to J. Matthew DeLesDernier, Assistant Secretary, Commission (Mar. 16, 2022). The comments received are available at https://www.sec.gov/comments/sr-nyse-2021-44/srnyse202144.htm.

On April 26, 2022, the Exchange withdrew the proposed rule change (File No. SR-NYSE-2021-44).

For the Commission, by the Division of Trading and Markets, pursuant to delegated authority.¹⁰
¹⁰ 17 CFR 200.30-3(a)(12).
J. Matthew DeLesDernier,
Assistant Secretary.

[FR Doc. 2022-09852 Filed 5-6-22; 8:45 am]

BILLING CODE 8011-01-P